SMALL BUSINESS ADMINISTRATION

[Disaster Declaration #20434 and #20435; MINNESOTA Disaster Number MN-20003]

Presidential Declaration Amendment of a Major Disaster for Public Assistance Only for the State of Minnesota

AGENCY: U.S. Small Business Administration.

ACTION: Amendment 4.

SUMMARY: This is an amendment of the Presidential declaration of a major disaster for Public Assistance Only for the State of Minnesota (FEMA-4797-DR), dated June 28, 2024.

Incident: Severe Storms and Flooding.

DATES: Issued on October 31, 2024.

Incident Period: June 16, 2024 through July 4, 2024.

Physical Loan Application Deadline Date: December 2, 2024.

Economic Injury (EIDL) Loan Application Deadline Date: March 28, 2025.

ADDRESSES: Visit the MySBA Loan Portal at https://lending.sba.gov to apply for a disaster assistance loan.

FOR FURTHER INFORMATION CONTACT: Alan Escobar, Office of Disaster Recovery & Resilience, U.S. Small Business Administration, 409 3rd Street SW, Suite 6050, Washington, DC 20416, (202) 205-6734.

SUPPLEMENTARY INFORMATION: The notice of the President's major disaster declaration for Private Non-Profit organizations in the State of Minnesota, dated June 28, 2024, is hereby amended to extend the deadline for filing applications for physical damages as a result of this disaster to December 2, 2024. This notice is further amended to include the following areas as adversely affected by the disaster.

Primary Counties: Dodge, Winona.

All other information in the original declaration remains unchanged.

(Catalog of Federal Domestic Assistance Number 59008)

Alejandro Contreras,
Acting Deputy Associate Administrator, Office of Disaster Recovery & Resilience.

[FR Doc. 2024-25788 Filed 11-5-24; 8:45 am]

BILLING CODE 8026-09-P